DEPARTMENT OF ENERGY

Federal Energy Regulatory Commission

[Docket No. CP00-391-000]

ANR Pipeline Company; Notice of Petition

June 23, 2000.

Take notice that on June 19, 2000, ANR Pipeline Company, (ANR) petitioned the Commission pursuant to Rule 207 of the Commission's Rules of Practice and Procedure, 18 CFR 385.207 for authorization to reacquire certain firm transportation capacity that it has historically held on Viking Gas Transmission Company (Viking).

In its Petition, ANR explained that the capacity at issue was released/assigned by ANR to its former sales customers at the direction of the Commission as part of the Order No. 636 restructuring process. ANR also advised that, although some of that Viking capacity is no longer desired by those customers, it is still required by ANR to ensure its ability to obtain flowing gas volumes in order to meet its existing firm service requirements in certain parties of western Wisconsin. ANR has requested that the Commission act on its Petition no later than September 1, 2000.

Any person desiring to be heard or to protest said filing should file a motion to intervene or a protest with the Federal Energy Regulatory Commission, 888 First Street, NE, Washington, DC 20426, in accordance with Sections 385.214 or 385.211 of the Commission's Rules and Regulations. All such motions or protests must be filed on or before June 29, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-16420 Filed 6-28-00; 8:45 am]

BILLING CODE 6717-01-M